DEPARTMENT OF ENERGY

Federal Energy Regulatory Commission

Combined Notice of Filings #1

Take notice that the Commission received the following electric corporate filings:

Docket Numbers: EC21-99-000.

Applicants: Panda Stonewall LLC.

Description: Application for Authorization Under Section 203 of the Federal Power Act of Panda Stonewall LLC.

Filed Date: 6/3/21.

Accession Number: 20210603-5146.

Comments Due: 5 p.m. ET 6/24/21.

Take notice that the Commission received the following electric rate filings:

Docket Numbers: ER10-3115-006; ER10-3115-007.

Applicants: Waterside Power, LLC.

Description: Fifth Supplement to April 20, 2020 Triennial Market Power Update for the Northeast Region of Waterside Power, LLC and Third Supplement to June 30, 2020 Updated Market Power Analysis of Waterside Power, LLC.

Filed Date: 6/3/21.

Accession Number: 20210603-5160.

Comments Due: 5 p.m. ET 6/24/21.

Docket Numbers: ER10-3117-008.

Applicants: Lea Power Partners, LLC.

Description: Fifth Supplement to April 20, 2020 Triennial Market Power Update for the Southwest Power Pool Region of Lea Power Partners, LLC.

Filed Date: 6/3/21.

Accession Number: 20210603-5159.

Comments Due: 5 p.m. ET 6/24/21.

Docket Numbers: ER11-4060-009; ER11-4061-009; ER13-445-009; ER14-2823-007; ER15-1170-005; ER15-1171-005; ER15-1172-005; ER15-1173-005.

Applicants: Badger Creek Limited, Bear Mountain Limited, Chalk Cliff Limited, Double C Generation Limited Partnership, High Sierra Limited, Kern Front Limited, Live Oak Limited, McKittrick Limited.

Description: Fourth Supplement to April 20, 2020 Triennial Market Power Update for the Southwest Power Pool Region of Badger Creek Limited, et al.

Filed Date: 6/3/21.

Accession Number: 20210603-5164.

Comments Due: 5 p.m. ET 6/24/21.

Docket Numbers: ER19-2462-004; ER10-2630-003; ER16-1914-003; ER18-2264-007.

Applicants: Macquarie Energy LLC, Macquarie Energy Trading LLC, NGP Blue Mountain I LLC, Patua Acquisition Company, LLC.

Description: Macquarie Energy LLC, et. al. submits Response Letter Regarding Public Release of Confidential Information.

Filed Date: 6/3/21.

Accession Number: 20210603-5166.

Comments Due: 5 p.m. ET 6/24/21.

Docket Numbers: ER21-1988-000; ER21-1988-001.

Applicants: SP Garland Solar Storage, LLC.

Description: SP Garland Solar Storage, LLC submits Amendment to Application for Market Based Rate Authority.

Filed Date: 6/3/21.

Accession Number: 20210603-5162.

Comments Due: 5 p.m. ET 6/24/21.

Docket Numbers: ER21-1989-000; ER21-1989-001.

Applicants: SP Tranquillity Solar Storage, LLC.

Description: SP Tranquility Solar Storage, LLC submits Amendment to Application for Market Based Rate Authority.

Filed Date: 6/3/21.

Accession Number: 20210603-5165.

Comments Due: 5 p.m. ET 6/24/21.

Docket Numbers: ER21-1988-002.

Applicants: SP Garland Solar Storage, LLC.

Description: Tariff Amendment: Additional Amendment of MBR Authority Application and Baseline Tariff Filing to be effective 5/31/2021.

Filed Date: 6/4/21.

Accession Number: 20210604-5001.

Comments Due: 5 p.m. ET 6/25/21.

Docket Numbers: ER21-1989-002.

Applicants: SP Tranquillity Solar Storage, LLC.

Description: Tariff Amendment: Additional Amendment of MBR Authority Application and Baseline Tariff Filing to be effective 5/31/2021.

Filed Date: 6/4/21.

Accession Number: 20210604-5000.

Comments Due: 5 p.m. ET 6/25/21.

Docket Numbers: ER21-2074-000.

Applicants: Tucson Electric Power Company.

Description: Tariff Cancellation: Cancellation of Service Agreement No. 322 to be effective 5/1/2021.

Filed Date: 6/3/21.

Accession Number: 20210603-5137.

Comments Due: 5 p.m. ET 6/24/21.

Docket Numbers: ER21-2075-000.

Applicants: Public Service Company of Colorado.

Description: § 205(d) Rate Filing: 2021-06-03 PSC-TSGT-WAPA-PRPA-Boundary Meter-595-0.0.0 to be effective 8/1/2021.

Filed Date: 6/3/21.

Accession Number: 20210603-5147.

Comments Due: 5 p.m. ET 6/24/21.

Docket Numbers: ER21-2076-000.

Applicants: Bulb US LLC.

Description: Baseline eTariff Filing: Application For Market Based Rate Authority to be effective 7/1/2021.

Filed Date: 6/3/21.

Accession Number: 20210603-5152.

Comments Due: 5 p.m. ET 6/24/21.

Docket Numbers: ER21-2077-000.

Applicants: Bulb Energy US Inc.

Description: Baseline eTariff Filing: Application For Market Based Rate Authority to be effective 7/1/2021.

Filed Date: 6/3/21.

Accession Number: 20210603-5154.

Comments Due: 5 p.m. ET 6/24/21.

Docket Numbers: ER21-2078-000.

Applicants: ITC Midwest LLC, Interstate Power and Light Company.

Description: § 205(d) Rate Filing: Update to O&T Agreement Exhibits and Appendices (2021) to be effective 8/3/2021.

Filed Date: 6/4/21.

Accession Number: 20210604-5026.

Comments Due: 5 p.m. ET 6/25/21.

Docket Numbers: ER21-2079-000.

Applicants: PJM Interconnection, L.L.C.

Description: § 205(d) Rate Filing: Revisions to OATT and OA re: TLR Buy-Through Option to be effective 8/5/2021.

Filed Date: 6/4/21.

Accession Number: 20210604-5045.

Comments Due: 5 p.m. ET 6/25/21.

Docket Numbers: ER21-2080-000.

Applicants: ITC Midwest LLC.

Description: § 205(d) Rate Filing: Concurrence IPL Amended Exhibits and Attachments (2021) to be effective 8/4/2021.

Filed Date: 6/4/21.

Accession Number: 20210604-5103.

Comments Due: 5 p.m. ET 6/25/21.

Docket Numbers: ER21-2081-000.

Applicants: PJM Interconnection, L.L.C.

Description: § 205(d) Rate Filing: Amendment to Service Agreement No. 3644; Queue Position Y2-018 (amend) to be effective 9/5/2014.

Filed Date: 6/4/21.

Accession Number: 20210604-5129.

Comments Due: 5 p.m. ET 6/25/21.

Docket Numbers: ER21-2082-000.

Applicants: Citizens S-Line Transmission LLC.

Description: Baseline eTariff Filing: Initial TO Tariff and Transmission Revenue Requirement Filing to be effective 12/31/9998.

Filed Date: 6/4/21.

Accession Number: 20210604-5151.

Comments Due: 5 p.m. ET 6/25/21.

Docket Numbers: ER21-2082-000.

Applicants: Citizens S-Line Transmission LLC.

Description: Baseline eTariff Filing: Initial TO Tariff and Transmission Revenue Requirement Filing to be effective 12/31/9998.

Filed Date: 6/4/21.

Accession Number: 20210604-5152.

Comments Due: 5 p.m. ET 6/25/21.

Docket Numbers: ER21-2083-000.

Applicants: Duke Energy Indiana, LLC.

Description: § 205(d) Rate Filing: DEI—Ameren Reimbursement Agreement RS No. 273 to be effective 6/5/2021.

Filed Date: 6/4/21.

Accession Number: 20210604-5153.

Comments Due: 5 p.m. ET 6/25/21.

Docket Numbers: ER21-2084-000.

Applicants: Coso Geothermal Power Holdings, LLC.

Description: Initial rate filing: Coso CoTenancy and Shared Facilities Agreement to be effective 6/4/2021.

Filed Date: 6/4/21.

Accession Number: 20210604-5156.

Comments Due: 5 p.m. ET 6/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2021.
Debbie-Anne A. Reese,
Deputy Secretary.

[FR Doc. 2021-12255 Filed 6-10-21; 8:45 am]

BILLING CODE 6717-01-P